DEPARTMENT OF COMMERCE

International Trade Administration

[A-583-833]

Polyester Staple Fiber from Taiwan: Notice of Partial Rescission of Antidumping Duty Administrative Review

AGENCY: Import Administration, International Trade Administration, Department of Commerce.

SUMMARY: On July 1, 2008, in response to requests from the petitioners, the Department of Commerce published a notice of initiation of administrative review of the antidumping duty order on polyester staple fiber from Taiwan. The period of review is May 1, 2007, through April 30, 2008. The Department of Commerce is rescinding this review in part.

EFFECTIVE DATE: September 2, 2008.

FOR FURTHER INFORMATION CONTACT: Thomas Schauer or Richard Rimlinger, AD/CVD Operations, Office 5, Import Administration, International Trade Administration, U.S. Department of Commerce, 14th Street and Constitution Avenue, NW, Washington, DC 20230; telephone: (202) 482-0410 or (202) 482-4477.

SUPPLEMENTARY INFORMATION:

Background

On July 1, 2008, in response to requests from Wellman, Inc., and Invista, S.a.r.L. (the petitioners), the Department of Commerce (Department) published a notice of initiation of administrative review of the antidumping duty order on polyester staple fiber from Taiwan. See Notice of Initiation of Antidumping and Countervailing Duty Administrative Reviews and Requests for Revocation in Part, 73 FR 37409 (July 1, 2008). On July 23, 2008, the petitioners withdrew their request for an administrative review of Nan Ya Plastics Corporation. See letter from the petitioners dated July 23, 2008.

Rescission of Review in Part

In accordance with 19 CFR 351.213(d)(1) the Department will rescind an administrative review “if a party that requested the review withdraws the request within 90 days of the date of publication of notice of initiation of the requested review.” We received the above withdrawal letter within the 90-day time limit. Because the Department received no other requests for review of Nan Ya Plastics Corporation, the Department is rescinding the review in part with respect to polyester staple fiber from Taiwan from Nan Ya Plastics Corporation. This rescission is pursuant to 19 CFR 351.213(d)(1). The Department will issue appropriate assessment instructions to U.S. Customs and Border Protection 15 days after publication of this notice.

Notification to Importers

This notice serves as a final reminder to importers of their responsibility under section 351.402(f) of the Department’s regulations to file a certificate regarding the reimbursement of antidumping duties prior to liquidation of the relevant entries during this review period. Failure to comply with this requirement could result in the Secretary’s assumption that reimbursement of antidumping duties occurred and subsequent assessment of double antidumping duties.

We are issuing and publishing this rescission in accordance with section 777(i)(1) of the Tariff Act of 1930, as amended, and 19 CFR 351.213(d)(4).

Dated: August 25, 2008.
Stephen J. Claeys,
Deputy Assistant Secretary for Import Administration.

[FR Doc. E8-20305 Filed 8-29-08; 8:45 am]

BILLING CODE 3510-DS-S